DEPARTMENT OF VETERANS AFFAIRS

National Research Advisory Council; Notice of Meeting

The Department of Veterans Affairs (VA) gives notice under the Federal Advisory Committee Act, 5 U.S.C., App. 2, that the National Research Advisory Council will hold a meeting on Wednesday, March 12, 2014, in conference room 530, at 810 Vermont Avenue NW., Washington, DC. The meeting will convene at 9:30 a.m. and end at 3:30 p.m. The meeting is open to the public.

The purpose of the Council is to provide external advice and review for VA's research mission. The agenda will include a review of the VA research portfolio, Annual Report to the National Research Advisory Council, and special projects. The Council will also provide feedback on the direction/focus of VA's research initiatives.

No time will be allocated at this meeting for receiving oral presentations from the public. Interested members of the public may submit written statements for the Council's review to Pauline Cilladi-Rehrer, Designated Federal Officer, Office of Research and Development (10P9), Department of Veterans Affairs, 810 Vermont Avenue NW., Washington, DC 20420, or by email at pauline.cilladi-rehrer@va.gov. Any member of the public wishing to attend the meeting or wishing further information should contact Ms. Cilladi-Rehrer at (202) 443-5607.

Dated: February 10, 2014.
Jeffrey M. Martin,
Office Manager, Regulation Policy and Management, Office of the General Counsel.

[FR Doc. 2014-03140 Filed 2-12-14; 8:45 am]

BILLING CODE P